DEPARTMENT OF VETERANS AFFAIRS

[OMB Control No. 2900-0208]

Proposed Information Collection (Architect—Engineer Fee Proposal, VA Form 10-6298, Daily Log (Contract Progress Report—Formal Contract), VA Form 10-6131, and Supplement Contract Progress Report, VA Form 10-61001a) Activity: Comment Request

AGENCY: Office of Management, Department of Veterans Affairs.

ACTION: Notice.

SUMMARY: In compliance with the Paperwork Reduction Act (PRA) of 1995 (44 U.S.C. 3501-3521), this notice announces that the Office of Management (OM), Department of Veterans Affairs, will submit the collection of information abstracted below to the Office of Management and Budget (OMB) for review and comment. The PRA submission describes the nature of the information collection and its expected cost and burden; it includes the actual data collection instrument.

DATES: Written comments and recommendations on the proposed collection of information should be received on or before November 20, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0208” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0208.”

SUPPLEMENTARY INFORMATION: Under the PRA of 1995 (Pub. L. 104-13; 44 U.S.C. 3501-3521), Federal agencies must obtain approval from the Office of Management and Budget (OMB) for each collection of information they conduct or sponsor. This request for comment is being made pursuant to section 3506(c)(2)(A) of the PRA.

Titles:

a. Architect—Engineer Fee Proposal, VA Form 10-6298.

b. Daily Log (Contract Progress Report—Formal Contract), VA Form 10-6131.

c. Supplement Contract Progress Report, VA Form 10-61001a.

OMB Control Number: 2900-0208.

Type of Review: Reinstatement of a previously approved collection.

Abstract:

a. An Architect-engineering firm selected for negotiation of a contract with VA is required to submit a fee proposal based on the scope and complexity of the project. VA Form 10-6298 is used to obtain such proposal and supporting cost or pricing data from the contractor and subcontractor.

b. VA Forms 10-6131 and 10-6001a are used to record data necessary to assure the contractor provides sufficient labor and materials to accomplish the contract work. VA Form 10-6131 is used for national contracts and VA Form 10-6001a is used for smaller VA Medical Center station level projects and as an option on major projects before the interim schedule is submitted. An agency may not conduct or sponsor, and a person is not required to respond to a collection of information unless it displays a currently valid OMB control number. The Federal Register Notice with a 60-day comment period on this collection of information was published on July 24, 2015, at [80 FR 44200].

Affected Public: Business or other for-profit.

Estimated Annual Burden:

a. VA Form 10-6298—1,000.

b. VA Form 10-6131—3,591.

c. VA Form 10-6001a—750.

Estimated Average Burden per Respondent:

a. VA Form 10-6298—4 hours.

b. VA Form 10-6131—12 minutes.

c. VA Form 10-6001a—12 minutes.

Frequency of Response: On occasion.

Estimated Number of Respondents:

a. VA Form 10-6298—250.

b. VA Form 10-6131—17,955.

c. VA Form 10-6001a—3,750.

By direction of the Secretary.
Kathleen M. Manwell,
Program Analyst, VA Privacy Service, Office of Privacy and Records Management, Department of Veterans Affairs.

[FR Doc. 2015-26651 Filed 10-20-15; 8:45 am]

BILLING CODE 8320-01-P